DEPARTMENT OF TRANSPORTATION

National Highway Traffic Safety Administration

[Docket No. NHTSA-2015-0078; Notice 2]

Bridgestone Americas Tire Operations, LLC, Grant of Petition for Decision of Inconsequential Noncompliance

AGENCY: National Highway Traffic Safety Administration (NHTSA), Department of Transportation (DOT).

ACTION: Grant of petition.

SUMMARY: Bridgestone Americas Tire Operations, LLC (BATO), has determined that certain Bridgestone bus tires do not fully comply with paragraph S6.5(e) of Federal Motor Vehicle Safety Standard (FMVSS) No. 119, New Pneumatic Tires for Motor Vehicles With a GVWR of More than 4,536 kilograms (10,000 pounds) and Motorcycles. BATO has filed an appropriate report dated July 7, 2015, pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-5930.

SUPPLEMENTARY INFORMATION:

I. Overview: Pursuant to 49 U.S.C. 30118(d) and 30120(h) (see implementing rule at 49 CFR part 556), BATO submitted a petition for an exemption from the notification and remedy requirements of 49 U.S.C. Chapter 301 on the basis that this noncompliance is inconsequential to motor vehicle safety.

Notice of receipt of the BATO's petition was published, with a 30-day public comment period, on October 2, 2015 in the Federal Register (80 FR 59850). No substantive comments were received. To view the petition, comments and all supporting documents log onto the Federal Docket Management System (FDMS) Web site at: http://www.regulations.gov/. Then follow the online search instructions to locate docket number “NHTSA-2015-0078.”

II. Tires Involved: Affected are approximately 328 Bridgestone R192GZ size 12R22.5 bus tires sold in the U.S. territory of Guam and manufactured between January 1, 2004 and April 30, 2015.

III. Noncompliance: BATO explains that the noncompliance is that the sidewall of the subject tires clearly states the speed restriction in km/h, however, omits the English units in mph as required by paragraph S6.5(e) of FMVSS No. 119.

IV. Rule Text: Paragraph S6.5 of FMVSS No. 119 requires in pertinent part:

S6.5 Tire Markings. Except as specified in this paragraph, each tire shall be marked on each sidewall with the information specified in paragraphs (a) through (j) of this section. . . .

(e) The speed restriction of the tire, if 90 km/h (55 mph) or less, shown as follows:

Max speed ____km/h (___mph). . . .

V. Summary of BATO's Petition: BATO states that Guam does not have interstate highways and that the speed limits throughout Guam (35 mph rural, 15 mph urban and 15-25 in school zones) are significantly lower than the speed restriction of the subject tires (55 mph), thus, BATO, believes that there is no risk of drivers consistently driving faster than the speed restriction on the tires, even if a driver is unfamiliar with metric units.

BATO also believes that most professional drivers would understand the speed restriction as stated in metric units. Since the subject tires cannot be used in a passenger vehicle application, and will be serviced and driven by professionals who understand the difference between English and metric units; it is unlikely an unqualified driver would mistakenly drive these tires faster than the speed restriction.

BATO notes that they have not received any complaints, claims, or warranty adjustments related to the subject tires and that these tires, meet all other performance requirements of FMVSS No. 119.

BATO has additionally informed NHTSA that it has corrected the noncompliance so that all future production of the subject tires complies with FMVSS No. 119.

In summation, BATO believes that the described noncompliance of the subject tires is inconsequential to motor vehicle safety, and that its petition, to exempt BATO from providing recall notification of noncompliance as required by 49 U.S.C. 30118 and remedying the recall noncompliance as required by 49 U.S.C. 30120 should be granted.

NHTSA'S Decision

NHTSA's Analysis: The agency agrees with BATO that the subject noncompliance is inconsequential to motor vehicle safety. The true measure of inconsequentiality to motor vehicle safety in this case is that there is no effect of the noncompliances on the operational safety of the vehicles on which these tires are mounted.

The subject speed-restricted tires are correctly stamped with the speed restriction in km/h. As BATO explained in its petition, omitting the English unit does not cause a safety concern in this case since the vehicles on which the subject tires are mounted are serviced and driven by professionals in U.S. territory of Guam (Guam) who understand the difference between English (mph) and Metric (kmh) speed units.

Furthermore, NHTSA has confirmed that Guam has no interstate highways and has maximum speed restriction of 35 mph on its road network which is significantly less than the 55 mph speed restriction intended for the subject tires.

For the above reasons, it is very unlikely that the subject vehicles will be driven faster than 55 mph for any sustained periods of time in Guam.

NHTSA's Decision: In consideration of the foregoing, NHTSA has decided that BATO has met its burden of persuasion that the FMVSS No. 119 noncompliance is inconsequential to motor vehicle safety. Accordingly, BATO's petition is hereby granted and BATO is exempted from the obligation of providing notification of, and remedy for the subject noncompliance.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that BATO no longer controlled at the time it determined that the noncompliance existed. However, the granting of this petition does not relieve equipment distributors and dealers of the prohibitions on the sale, offer for sale, or introduction or delivery for introduction into interstate commerce of the noncompliant tires under their control after BATO notified them that the subject noncompliance existed.

Authority: (49 U.S.C. 30118, 30120: delegations of authority at 49 CFR 1.95 and 501.8)

Jeffrey M. Giuseppe,
Director, Office of Vehicle Safety Compliance.

[FR Doc. 2015-31167 Filed 12-10-15; 8:45 am]

BILLING CODE 4910-59-P